NATIONAL AERONAUTICS AND SPACE ADMINISTRATION

[Notice: (10-160)]

National Environmental Policy Act: Scientific Balloon Program

AGENCY: National Aeronautics and Space Administration (NASA).

ACTION: Finding of No Significant Impact.

SUMMARY: Pursuant to the National Environmental Policy Act (NEPA) of 1969, as amended (42 U.S.C. 4321, et seq.); the Council on Environmental Quality Regulations for Implementing the Procedural Provisions of NEPA (40 CFR Parts 1500-1508); and NASA policy and procedures (14 CFR part 1216, subpart 1216.3); NASA has made a Finding of No Significant Impact (FONSI) with respect to its proposed increase in scientific balloon launches at the Columbia Scientific Balloon Facility (CSBF). CSBF would launch up to 10 additional scientific balloons per year from CSBF Fort Sumner, New Mexico, while launches from CSBF Palestine, Texas would remain at current levels.

ADDRESSES: Copies of the final Scientific Balloon Program Programmatic Environmental Assessment (PEA) may be viewed at the following locations:

(a) Fort Sumner Public Library, 235 West Sumner Avenue, Fort Sumner, New Mexico 88119 (575-355-2832).

(b) Palestine Public Library, 1101 North Cedar Street, Palestine, Texas 75801 (903-729-4121).

(c) NASA Headquarters Library, Room 1J20, 300 E Street, SW., Washington, DC 20546-0001 (202-358-0168).

On the Internet at: http://sites.wff.nasa.gov/code 250/docs/BPO_PEA.html.

A limited number of hard copies of the final PEA are available by contacting: Joshua Bundick, NEPA Program Manager, NASA Wallops Island Flight Facility, Code 250.W, Wallops Island, VA 23337.

FOR FURTHER INFORMATION CONTACT: Joshua Bundick, (757) 824-2319 (phone); (757) 824-1819 (fax).

SUPPLEMENTARY INFORMATION: NASA has reviewed the Programmatic Environmental Assessment (PEA) prepared for the scientific balloon launches at the Columbia Scientific Balloon Facility (CSBF) and has concluded that the PEA represents an accurate and adequate analysis of the scope and level of associated environmental impacts. NASA hereby incorporates the PEA by reference in the Finding of No Significant Impact (FONSI). NASA solicited public and agency review and comment on the environmental impacts of the proposed action through:

1. Publishing a notice of availability of the draft PEA and the draft FONSI in the Federal Register, the DeBaca County News, and the Palestine Herald;

2. Making available the draft PEA and draft FONSI at the Palestine Public Library, Palestine, Texas; the Fort Sumner Public Library, Fort Sumner, New Mexico; and the NASA Headquarters Library in Washington, DC;

3. Publication of the draft PEA and draft FONSI on the Internet;

4. Consultations with Federal, State, and local agencies; and

5. Mailing the draft PEA and draft FONSI directly to interested parties.

Comments received were taken into consideration in the final PEA.

CSBF is composed of two facilities that launch scientific balloons. The main facility is located in Palestine, Texas, while the other facility is located in Fort Sumner, New Mexico. Though CSBF Palestine is the main facility, most balloon launches occur from the Fort Sumner facility due to its more remote nature. As balloon flight paths are wind-driven, their landing sites could be in adjacent States. An analysis of the past ten years of flights indicates that the majority of balloons and payloads are recovered from Texas, New Mexico, and Arizona. Very few balloons or payloads have landed in the neighboring States of Oklahoma, Kansas, and Colorado.

The PEA describes the potential impacts from the Proposed Action as well as the No Action alternative. Under the Proposed Action, NASA would increase the number of scientific balloons launched each year. Balloon flights originating from CSBF Fort Sumner would increase from 15 to 25 annually; balloons launched from the CSBF Palestine would continue at approximately 6 per year. No construction would take place at either of the two launch sites and no increase in the personnel staff at either CSBF Fort Sumner or CSBF Palestine is proposed.

Under the No Action alternative, NASA would not increase the number of balloon launches from either CSBF location, and the status quo would be maintained with 21 conventional balloons launched annually.

Summary of Environmental Impacts: The potential environmental impacts from implementation of the Proposed Action are summarized below.

Airspace and Balloon Operations: No adverse impacts to airspace management or balloon operations are anticipated under this proposal. CSBF would continue to adhere to the letter of agreement with the Federal Aviation Administration Air Route Traffic Control Centers (ARTCC) for Albuquerque and Fort Worth. CSBF would continue to notify Cannon Air Force Base prior to balloon launches to further enhance safety in the region. As such, impacts to other users of the airspace or to balloons launched from CSBF Fort Sumner or CSBF Palestine would not be adverse.

Safety: NASA and CSBF have extensive safety regulations and standard safety procedures for launch and recovery activities that ensure safety of staff and the general public. Models developed by NASA are used to predict the landing location of the balloon system. Along with real-time computer monitoring systems and controls, population centers and Special Use Land Management Areas (SULMAs) can be avoided, virtually eliminating the potential for injury to people or property. Adverse impacts from implementing the Proposed Action are not anticipated.

Air Quality: Vehicular travel by research scientists and students to the CSBF Fort Sumner location would increase under this proposal; however, the emissions would be minimal. Air emissions would not be perceptibly changed within the CSBF Operations Area due to the small increase in trips to be conducted by recovery vehicles and tracking planes used during the balloon and payload/parachute descent. Overall, no measureable change in air emissions would be anticipated.

Socioeconomics: Fort Sumner Village would experience a short-term positive economic impact each year during balloon campaigns at CSBF Fort Sumner from the purchase of food, supplies, and lodging by CSBF staff and research scientists and students. An adequate supply of restaurants and lodging accommodations exists to meet the needs of the CSBF staff and research scientists/students. The City of Palestine currently experiences positive economic impacts from CSBF activities. Under this proposal, balloon launches from Palestine would not increase; therefore, no change in socioeconomic impacts would be anticipated.

Land Use: CSBF currently avoids SULMAs and would continue this practice under the Proposed Action. The CSBF Operations Area spans portions of six States; the chances of a balloon/payload landing in the same location are unlikely. Recovery operations are often complete within 24 hours after landing has occurred. Should a balloon/payload land within a SULMA, or on private land, the land manager/landowner would be contacted prior to the CSBF recovery team accessing the site. If required, CSBF would obtain a permit or authorization to retrieve the balloon/payload. Overall, no adverse impact to land use would be expected.

Biological Resources: Minor adverse impacts to biological resources are anticipated under the Proposed Action. CSBF would continue to avoid known critical habitats and wetlands. If unplanned circumstances resulted in the need to land a payload within a designated Critical Habitat, CSBF would initiate contact with the U.S. Fish and Wildlife Service to determine the best method for payload recovery, with the least amount of environmental impact.

Cultural Resources: Increased balloon operations would constitute an increased probability for adverse effects to cultural resources from balloon/payload landing and recovery activities; however, the probability for impacting culturally significant resources would be extremely low. Predictive modeling used by CSBF for balloon/payload landing would continue to be used for avoidance of all known culturally significant areas. If unplanned circumstances resulted in the need to land a payload within a culturally sensitive area, CSBF would initiate contact with the responsible State or Tribal Historic Preservation Officer to determine the best method for payload recovery, with the least amount of impact.

Hazardous Materials and Systems: Strict operational control measures are followed when hazardous materials are used during balloon staging and operations. Should a release of any hazardous material occur during payload landing/recovery operations, CSBF staff would implement NASA-approved procedures for clean up in accordance with applicable Federal and State regulations. Accordingly, impacts to personnel or the environment would not be expected.

Transportation: Transportation or traffic issues are minimal in the regions surrounding the CSBF launch sites. Vehicles used in recovery operations would not impact transportation systems across the CSBF Operations Area. As such, no adverse impacts to transportation resources in the region surrounding the CSBF launch sites or within the Operations Area are anticipated.

Cumulative Effects: Cumulative impacts were evaluated for potentially affected resources. No cumulative impacts are anticipated from implementation of the Proposed Action. No other known or foreseeable actions would be anticipated to affect resource areas impacted by CSBF balloon launch, flight, termination, or recovery activities.

Conclusion: NASA has identified no other issues of potential environmental concern. Based on the findings in the final PEA for the NASA Scientific Balloon Program, and review of underlying reference documents, NASA has determined that the environmental impacts associated with the Proposed Action will not individually or cumulatively have a significant impact on the quality of the human environment. Therefore, an environmental impact statement will not be required.

Dated: December 7, 2010.
Edward J. Weiler,
Associate Administrator, Science Mission Directorate.

[FR Doc. 2010-31239 Filed 12-10-10; 8:45 am]

BILLING CODE P